INTERNATIONAL TRADE COMMISSION

[Investigation Nos. 701-TA-747 and 731-TA-1725 (Final)]

Overhead Door Counterbalance Torsion Springs From India; Scheduling of the Final Phase of the Antidumping and Countervailing Duty Investigations

AGENCY: United States International Trade Commission.

ACTION: Notice.

DATES: Effective December 31, 2025.

FOR FURTHER INFORMATION CONTACT: Peter Stebbins ((202) 205-2039), Office of Investigations, U.S. International Trade Commission, 500 E Street SW, Washington, DC 20436. Hearing-impaired persons can obtain information on this matter by contacting the Commission's TDD terminal ((202) 205-1810). Persons with mobility impairments who will need special assistance in gaining access to the Commission should contact the Office of the Secretary ((202) 205-2000). General information concerning the Commission may also be obtained by accessing its internet server (https://www.usitc.gov). The public record for this proceeding may be viewed on the Commission's electronic docket (EDIS) at https://edis.usitc.gov.

SUPPLEMENTARY INFORMATION: Effective June 2, 2025, the Commission established a general schedule for the conduct of the final phase of its antidumping and countervailing duty investigations on overhead door counterbalance torsion springs from China and India, following preliminary determinations by the U.S. Department of Commerce (“Commerce”) that such imports were being subsidized by the governments of China and India and being sold at less than fair value. Notice of the scheduling of the final phase of the Commission's investigations and of a public hearing held in connection therewith was given by posting copies of the notice in the Office of the Secretary, U.S. International Trade Commission, Washington, DC, and by publishing the notice in the Federal Register on June 11, 2025 (90 FR 24665), subsequently revised on June 17, 2025 (90 FR 26608, June 23, 2025). The Commission cancelled its public hearing effective August 12, 2025 (90 FR 39420, August 15, 2025).

Commerce has issued a final affirmative antidumping and countervailing duty determinations with respect to overhead door counterbalance torsion springs from China (90 FR 39369 and 90 FR 39374, August 15, 2025). The Commission subsequently issued its final determinations that an industry in the United States was materially injured by reason of imports of overhead door counterbalance torsion springs from China, provided for in subheading 7320.20.50 of the Harmonized Tariff Schedule of the United States, that have been found by Commerce to be sold in the United States at less than fair value, and imports of the subject merchandise from China that have been found to be subsidized by the government of China (90 FR 47820, October 2, 2025).

Commerce issued a final affirmative antidumping and countervailing duty determinations with respect to imports of overhead door counterbalance torsion springs from India (90 FR 61366 and 90 FR 61369, December 31, 2025). Accordingly, the Commission currently is issuing a supplemental schedule for its antidumping and countervailing duty investigations on imports of overhead door counterbalance torsion springs from India.

This supplemental schedule is as follows: the deadline for filing supplemental party comments on final affirmative antidumping and countervailing duty determinations with respect to imports of overhead door counterbalance torsion springs from India is 5:15 p.m. on January 15, 2026. Supplemental party comments may address only Commerce's final affirmative antidumping and countervailing duty determinations with respect to imports of overhead door counterbalance torsion springs from India. These supplemental final comments may not contain new factual information and may not exceed five (5) pages in length. The supplemental staff report in the final phase of the current investigations will be placed in the nonpublic record on January 28, 2026, and a public version will be issued thereafter.

For further information concerning this proceeding see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Please note the Secretary's Office will accept only electronic filings during this time. Filings must be made through the Commission's Electronic Document Information System (EDIS, https://edis.usitc.gov.) No in-person paper-based filings or paper copies of any electronic filings will be accepted until further notice.

Authority: This proceeding is being conducted under authority of title VII of the Tariff Act of 1930; this notice is published pursuant to section 207.21 of the Commission's rules.

By order of the Commission.
Issued: January 8, 2026.
Lisa Barton,
Secretary to the Commission.

[FR Doc. 2026-00347 Filed 1-9-26; 8:45 am]

BILLING CODE 7020-02-P